DEPARTMENT OF THE INTERIOR

Bureau of Land Management

[LLOR930000.L63500000.DO0000.LXSS081H0000.16XL1116AF; HAG 16-0053]

Notice of Availability of the Proposed Resource Management Plan and Final Environmental Impact Statement for Western Oregon

AGENCY: Bureau of Land Management, Interior.

ACTION: Notice of availability.

SUMMARY: In accordance with the National Environmental Policy Act of 1969, as amended, and the Federal Land Policy and Management Act of 1976, as amended, the Bureau of Land Management (BLM) has prepared a Proposed Resource Management Plan (RMP)/Final Environmental Impact Statement (EIS) for Western Oregon and, by this notice, is announcing its availability.

DATES: BLM planning regulations state that any person who meets the conditions as described in the regulations at 43 CFR 1610.5-2 may protest the BLM's Proposed RMP/Final EIS. A person who meets the conditions and files a protest must file the protest within 30 days of the date that the Environmental Protection Agency publishes its Notice of Availability in the Federal Register.

ADDRESSES: Copies or notification of the electronic availability of the RMPs for Western Oregon Proposed RMP/Final EIS have been sent to affected Federal, State, Tribal, and local government agencies and to other stakeholders including interested parties, that previously requested a copy. Copies of the Proposed RMP/Final EIS are available for public inspection at the Coos Bay, Eugene, Medford, Roseburg, and Salem Districts and the Lakeview District's Klamath Falls Field Office. Interested persons may also review the Proposed RMP/Final EIS on the Internet at: www.blm.gov/or/plans/rmpswesternoregon/feis. All protests must be in writing and mailed to one of the following addresses:

Regular Mail: BLM Director (210), Attention: Protest Coordinator, P.O. Box 71383, Washington, DC 20024-1383

Overnight Delivery: BLM Director (210), Attention: Protest Coordinator, 20 M Street SE., Room 2134LM, Washington, DC 20003

FOR FURTHER INFORMATION CONTACT: Mr. Mark Brown, RMPs for Western Oregon Project Manager, telephone 503-808-6233; address 1220 SW. 3rd Avenue, P.O. Box 2965; Portland, OR 97204; or email at: blm_or_rmps_westernoregon@blm.gov.

Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: The BLM Proposed RMP/Final EIS for Western Oregon encompasses approximately 2.5 million acres of BLM-administered lands and 69,000 acres of split-estate lands in western Oregon. The Proposed RMP/Final EIS analyzes in detail a range of alternatives to meet the purposes and needs of: producing a sustained yield of timber products, furthering the recovery of threatened and endangered species, providing for clean water, restoring fire-adapted ecosystems, providing for recreation opportunities, and coordinating management of lands surrounding the Coquille Forest with the Coquille Tribe. The Proposed RMP would revise the RMPs for the Coos Bay, Eugene, Medford, Roseburg, and Salem District Offices and the Lakeview District's Klamath Falls Field Office. The current RMPs for these six offices were completed in 1995 and incorporate the land use allocations and standards and guidelines from the Northwest Forest Plan.

In 2012, the BLM conducted an evaluation of the 1995 RMPs in accordance with its planning regulations and concluded that a plan revision was necessary to address changed circumstances and new information that had led to a substantial, long-term departure from the timber management outcomes predicted under the 1995 RMPs. Within the western Oregon districts, three BLM-administered areas are not included in the decision area: The Cascade Siskiyou National Monument (Medford District), the Upper Klamath Basin and Wood River Wetland (Klamath Falls Field Office), and the West Eugene Wetlands (Eugene District).

BLM-administered lands in the planning area include Oregon and California Railroad (O&C) lands, Coos Bay Wagon Road lands, Public Domain lands, and acquired lands. The Oregon and California Revested Lands Sustained Yield Management Act of 1937 put the O&C lands under the jurisdiction of the U.S. Department of the Interior and provides the legal authority for the management of O&C and Coos Bay Wagon Road lands. The lands were classified as timberlands to be managed for permanent forest production, and timber was to be sold, cut, and removed in conformity with the principle of sustained yield for the purpose of providing a permanent source of timber supply. The Act also provided for protecting watersheds, regulating stream flow, contributing to the economic stability of local communities and industries, and providing recreational facilities. The Federal Land Policy and Management Act of 1976 provides the legal authority for management of Public Domain lands and acquired lands. These lands and resources are to be managed under the principles of multiple use and sustained yield.

Land ownership patterns in western Oregon create unique management challenges. Generally, O&C land is located in odd-numbered sections, and private land is located in even-numbered sections, creating a “checkerboard” ownership pattern. Activities on adjacent private lands have implications for management of BLM-administered lands. The BLM typically manages only a small percentage of land in any particular watershed, and in many cases, cumulative actions across all ownerships determine resource outcomes. In the Coast Range, checkerboard ownership is spread across the entire watershed. In the western Cascades, checkerboard ownership is mostly in the lower part of watersheds with blocked U.S. Forest Service ownership in the headwater areas.

The Proposed RMP/Final EIS for the RMPs for Western Oregon plan revisions analyzes in detail the Proposed RMP, four action alternatives, two sub-alternatives, and the No Action alternative. The No Action alternative would continue to implement the 1995 RMPs, as written, with no change in the management actions and level of management intensity in the planning area.

The BLM developed the Proposed RMP and action alternatives to represent a range of overall management approaches to respond to the purpose and need. The Proposed RMP and all action alternatives include the following land use allocations: Congressionally Reserved (e.g., wilderness, wild and scenic rivers), District-Designated Reserves, Late-Successional Reserve, Riparian Reserve, Harvest Land Base, and Eastside Management Area. The location and acreage of these allocations vary by alternative, including the Proposed RMP, with the exception of congressionally reserved allocations that are common to all alternatives, including the Proposed RMP. Within each action alternative, the Harvest Land Base, Late-Successional Reserve, and Riparian Reserve have specific, mapped sub-allocations with differing management direction. Given the checkboard ownership patterns and the widespread distribution of the federally listed species in the planning area analyzed in this Proposed RMP/Final EIS, regional mitigation considerations are incorporated throughout the action alternatives.

The two sub-alternatives modify an individual component of northern spotted owl conservation and have related effects on timber production.

Alternative A has a Late-Successional Reserve larger than the No Action Alternative. The Harvest Land Base is comprised of the Uneven-Aged Timber Area and the High Intensity Timber Area. The High Intensity Timber Area includes regeneration harvest with no retention (clear cuts).

Alternative B has a Late-Successional Reserve similar in size to Alternative A, though of a different spatial design. The Harvest Land Base is comprised of the Uneven-Aged Timber Area, Low Intensity Timber Area, and Moderate Intensity Timber Area. The portion of the Harvest Land Base in Uneven-Aged Timber Area is the largest of all action alternatives. The Low Intensity Timber Area and Moderate Intensity Timber Area include regeneration harvest with varying levels of retention.

Sub-alternative B is identical to Alternative B, except that it includes protection of habitat within the home ranges of all northern spotted owl known and historic sites.

Alternative C has the largest Harvest Land Base of any of the alternatives, including the Proposed RMP. The Harvest Land Base is comprised of the Uneven-Aged Timber Area and the High Intensity Timber Area. The High Intensity Timber Area includes regeneration harvest with no retention. Alternative C has the smallest acreage in the Riparian Reserve of all of the alternatives, including the Proposed RMP.

Sub-alternative C is identical to Alternative C, except that the Late-Successional Reserve includes all stands 80 years old and older.

Alternative D has the smallest Late-Successional Reserve of any of the alternatives, including the Proposed RMP. The Harvest Land Base is comprised of the Uneven-Aged Timber Area, Owl Habitat Timber Area, and Moderate Intensity Timber Area. The Owl Habitat Timber Area includes timber harvest applied in a manner that would maintain northern spotted owl habitat. The Moderate Intensity Timber Area includes regeneration harvest with retention. Alternative D has the largest acreage in the Riparian Reserve of all of the action alternatives, including the Proposed RMP.

The BLM has developed the Proposed RMP as a variation on Alternative B, which the BLM identified in the Draft RMP/EIS as the preferred alternative. The Proposed RMP has a Late-Successional Reserve that is a refinement of the Late-Successional Reserve design in Alternative B. The Harvest Land Base is comprised of the Uneven-Aged Timber Area, Low Intensity Timber Area, and Moderate Intensity Timber Area, as in Alternative B. The geographic extent of the portion of the Harvest Land Base in Uneven-Aged Timber Area in the Proposed RMP is intermediate between Alternative B and Alternative C. The Proposed RMP includes a Riparian Reserve design that is intermediate among the alternatives and incorporates elements of each of the alternatives, resulting in an acreage that is higher than Alternatives B and C but lower than Alternatives A and D.

The BLM would expand the existing (100-foot) National Trail Management Corridor on the Pacific Crest National Scenic Trail to 1-mile wide (1/2-mile either side of centerline), and would establish a National Trail Management Corridor on the California National Historic Trail-Applegate Study Trail Route of 100-feet (50-feet either side of centerline).

The BLM evaluated 51 eligible Wild and Scenic River segments as part of this RMP revision. Six segments—the Rogue River and West Fork Illinois River in the Medford District; and the Little North Santiam River, North Fork Siletz River, Sandy River, and Table Rock Fork-Molalla River in the Salem District—were found to be suitable and would be recommended for inclusion into the National Wild and Scenic Rivers System under the Proposed RMP. These six segments would receive protection of tentative classification, outstandingly remarkable values, free-flowing characteristics, and water quality while being considered for designation. One segment, the Nestucca River Segment B, was determined to warrant joint study with the U.S. Forest Service before determining suitability and would receive protection of tentative classification, outstandingly remarkable values, free-flowing characteristics, and water quality until the completion of this joint study. One segment, South Yamhill River, contains no portion of the river or corridor on BLM-administered lands and was removed from further evaluation through this process. All remaining 43 evaluated eligible Wild and Scenic River segments were not found to be suitable for inclusion into the National Wild and Scenic River System and would be released from protective management under the Wild and Scenic Rivers Act.

The land-use planning process was initiated on March 9, 2012, through a Notice of Intent published in the Federal Register (77 FR 14414) notifying the public of a formal scoping period and soliciting public participation which ended on October 5, 2012. The BLM held scoping open houses in May and June 2012. The BLM used public scoping comments to help identify planning issues that directed the formulation of alternatives and framed the scope of analysis in the Draft RMP/EIS.

Cooperating agencies in the preparation of this land use plan include the Environmental Protection Agency; National Marine Fisheries Service; U.S. Fish and Wildlife Service; U.S. Forest Service; State of Oregon; Benton County; Clackamas County; Columbia County; Coos County; Curry County; Douglas County; Klamath County; Lane County; Lincoln County; Linn County; Marion County; Multnomah County; Polk County; Tillamook County; Washington County; Yamhill County; Confederated Tribes of Coos, Lower Umpqua, and Siuslaw Indians; Confederated Tribes of Grand Ronde; Confederated Tribes of Siletz Indians; Coquille Indian Tribe; Cow Creek Band of Umpqua Tribe of Indians; and the Klamath Tribes. With the exception of Benton County, all listed counties have authorized the Association of O&C Counties to act as the counties' agent and representative in their role as cooperating agencies in the planning process when county commissioners were otherwise absent.

The BLM released the Draft RMP/EIS on April 24, 2015. The BLM conducted a series of public meetings after the release of the Draft RMP/EIS. The purpose of these meetings was to help members of the public understand the content of the Draft RMP/EIS and provide meaningful and constructive comments. The BLM held six “open-house” public meetings (one meeting per BLM District Office) and one meeting for elected officials where BLM employees could engage with stakeholders on all resources addressed in the Draft RMP/EIS. The BLM also organized nine, issue-specific meetings on topics such as socio-economics, forestry, aquatics, and wildlife.

The comment period for the Draft RMP/EIS closed on August 21, 2015. All comments received during the comment period are available to the public at: http://www.blm.gov/or/plans/rmpswesternoregon/comments.php.

Comments on the Draft RMP/EIS received from the public were considered and incorporated as appropriate into the proposed plan. Public comments resulted in formulation of the Proposed RMP, additional consideration of alternatives that were not analyzed in detail, presentation of new analysis within issues considered for forest management and socioeconomic resources, consideration of additional science, and the addition of clarifying text. No comments received significantly changed the proposed land use plan decisions.

Instructions for filing a protest regarding the Proposed RMP/Final EIS may be found in the “Dear Reader” Letter of the RMPs for Western Oregon Proposed RMP/Final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your phone number, email address, or other personal identifying information in your protest, you should be aware that your entire protest—including your personal identifying information—may be made publicly available at any time. While you can ask us in your protest to withhold your personal identifying information from public review we cannot guarantee that we will be able to do so.

Authority: 40 CFR 1506.6, 40 CFR 1506.10, 43 CFR 1610.2.

Jerome E. Perez,
State Director, Oregon/Washington.

[FR Doc. 2016-08740 Filed 4-14-16; 8:45 am]

BILLING CODE 4310-33-P